ENVIRONMENTAL PROTECTION AGENCY

40 CFR Part 52

[VA109-5050b; FRL-6887-6]

Approval and Promulgation of Air Quality Implementation Plans; Virginia; Approval of Approval of Removal of TSP Ambient Standards

AGENCY: Environmental Protection Agency (EPA).

ACTION: Proposed rule.

SUMMARY: EPA proposes to approve a State Implementation Plan (SIP) revision submitted by the Commonwealth of Virginia for the purpose of removing references to total suspended particulate (TSP) ambient standards and levels from its regulations for ambient air quality standards and for air pollution episode prevention. In the Final Rules section of this Federal Register, EPA is approving the State's SIP submittal as a direct final rule without prior proposal because the Agency views this as a noncontroversial submittal and anticipates no adverse comments. A detailed rationale for the approval is set forth in the direct final rule. If no adverse comments are received in response to this action, no further activity is contemplated. If EPA receives adverse comments, the direct final rule will be withdrawn and all public comments received will be addressed in a subsequent final rule based upon this proposed rule. EPA will not institute a second comment period. Any parties interested in commenting on this action should do so at this time.

DATES: Comments must be received in writing by November 20, 2000.

ADDRESSES: Written comments should be addressed to Mr. Denis Lohman, Acting Chief, Technical Assessment Branch, Mailcode 3AP22, U.S. Environmental Protection Agency, Region III, 1650 Arch Street, Philadelphia, Pennsylvania 19103. Copies of the documents relevant to this action are available for public inspection during normal business hours at the Air Protection Division, U.S. Environmental Protection Agency, Region III, 1650 Arch Street, Philadelphia, Pennsylvania 19103; and Virginia Department of Environmental Quality, 629 East Main Street, Richmond, Virginia, 23219.

FOR FURTHER INFORMATION CONTACT: Ruth E. Knapp, (215) 814-2191, at the EPA Region III address above, or by e-mail at knapp.ruth@epa.gov.

SUPPLEMENTARY INFORMATION: For further information on this SIP revision related to removal of TSP ambient standards and levels from Virginia's regulations, please see the information provided in the direct final action, with the same title, that is located in the “Rules and Regulations” section of this Federal Register publication.

Dated: October 5, 2000.
Bradley M. Campbell,
Regional Administrator, Region III.

[FR Doc. 00-26909 Filed 10-18-00; 8:45 am]

BILLING CODE 6560-50-P